DEPARTMENT OF TRANSPORTATION

Federal Aviation Administration

14 CFR Part 39

[Docket No. 99-CE-74-AD; Amendment 39-12094; AD 2001-02-10]

RIN 2120-AA64

Airworthiness Directives; Raytheon Aircraft Company Beech Models 60, A60, and B60 Airplanes

AGENCY: Federal Aviation Administration, DOT.

ACTION: Final rule.

SUMMARY: This amendment adopts a new airworthiness directive (AD) that applies to certain Raytheon Aircraft Company (Raytheon) Beech Models 60, A60, and B60 airplanes. This AD requires you to inspect for the existence of any lower forward wing bolts with the Mercury Aerospace trademark, and replace any such bolt with an FAA-approved bolt without this trademark. This AD is the result of a report that wing bolts supplied by Mercury Aerospace may not meet the required Rockwell hardness specifications. The actions specified by this AD are intended to detect and correct wing bolts that do not meet strength requirements. Continued airplane operation with such bolts could result in fatigue failure of the bolts with consequent separation of the wing from the airplane.

DATES: This AD becomes effective on March 19, 2001.

The Director of the Federal Register approved the incorporation by reference of certain publications listed in the regulations as of March 19, 2001.

ADDRESSES: You may get the service information referenced in this AD from Raytheon Aircraft Company, P.O. Box 85, Wichita, Kansas 67201-0085; telephone: (800) 429-5372 or (316) 676-3140. You may examine this information at the Federal Aviation Administration (FAA), Central Region, Office of the Regional Counsel, Attention: Rules Docket No. 99-CE-74-AD, 901 Locust, Room 506, Kansas City, Missouri 64106; or at the Office of the Federal Register, 800 North Capitol Street, NW, suite 700, Washington, DC.

FOR FURTHER INFORMATION CONTACT: Mr. T.N. Baktha, Aerospace Engineer, FAA, Wichita Aircraft Certification Office, 1801 Airport Road, Mid-Continent Airport, Wichita, Kansas 67209; telephone: (316) 946-4155; facsimile: (316) 946-4407.

SUPPLEMENTARY INFORMATION:

Discussion

What events have caused this AD? The FAA has received a report indicating that about 70 lower forward wing bolts that Mercury Aerospace supplied for certain Raytheon Models 60, A60, and B60 airplanes may not meet Rockwell hardness specifications. The bolts were distributed between 1995 and 1996. An independent test lab has confirmed that the bolts do not meet the structural requirements for an MS21250-14034 bolt.

Specifically, these wing bolts are required to meet Rockwell hardness specifications of C39-C43. Laboratory tests indicate that bolts from this manufacturing batch are below these specifications.

What are the consequences if the condition is not corrected? Continued airplane operation with such bolts could result in fatigue failure of the bolts with consequent separation of the wing from the airplane.

Has FAA taken any action to this point? We issued a proposal to amend part 39 of the Federal Aviation Regulations (14 CFR part 39) to include an AD that would apply to certain Raytheon Beech Models 60, A60, and B60 airplanes. This proposal was published in the Federal Register as a notice of proposed rulemaking (NPRM) on October 12, 2000 (65 FR 60599). The NPRM proposed to require you to inspect for the existence of any lower forward wing bolt with the Mercury Aerospace trademark and replace such bolt with an FAA-approved bolt without this trademark.

Was the public invited to comment? Interested persons were afforded an opportunity to participate in the making of this amendment. No comments were received on the proposed rule or the FAA's determination of the cost to the public.

The FAA's Determination

What is FAA's final determination on this issue? After careful review of all available information related to the subject presented above, we have determined that air safety and the public interest require the adoption of the rule as proposed except for minor editorial corrections. We determined that these minor corrections:

—Will not change the meaning of the AD; and

—Will not add any additional burden upon the public than was already proposed.

Cost Impact

How many airplanes does this AD impact? We estimate that this AD affects 593 airplanes in the U.S. registry.

What is the cost impact of this AD on owners/operators of the affected airplanes? We estimate the following costs to accomplish the inspection:

Labor cost | Parts cost | Total cost per airplane | Total cost on U.S. operators
1 workhour × $60 per hour = $60 | Not applicable | $60 per airplane | $60 × 593 = $35,580.

We estimate the following costs to accomplish any necessary replacements that will be required based on the results of the inspection. Based on manufacturer data from its warranty program, 10 bolts were replaced, which leaves 60 suspect bolts still in the field.

Labor cost | Parts cost | Total cost per airplane
8 workhours × $60 per hour = $480 | Approximately $500 per airplane | $480 + $500 = $980 per airplane.

Please note that the warranty credit has expired.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-02-10 Raytheon Aircraft Company: Amendment 39-12094; Docket No. 99-CE-74-AD.

(a) What airplanes are affected by this AD? This AD affects Beech Models 60, A60, and B60 airplanes, serial numbers P-4 through P-596, that are certificated in any category.

(b) Who must comply with this AD? Anyone who wishes to operate any of the above airplanes must comply with this AD.

(c) What problem does this AD address? The actions specified by this AD are intended to detect and correct wing bolts that do not meet strength requirements. Continued airplane operation with such bolts could result in fatigue failure of the bolts with consequent separation of the wing from the airplane.

(d) What actions must I accomplish to address this problem? To address this problem, you must accomplish the following:

Action | Compliance time | Procedures
(1) Inspect the lower forward wing bolts (left and right) for the Mercury Aerospace trademark | Within the next 100 hours time-in-service (TIS) after March 19, 2001 (the effective date of this AD), unless already accomplished | In accordance with the ACCOMPLISHMENT INSTRUCTIONS section of Raytheon Mandatory Service Bulletin SB 57-3328, Issued: July, 1999.
(2) Replace any lower forward wing bolt that has the Mercury Aerospace trademark with an FAA-approved bolt that does not have this trademark. Replace the associated nuts and washers | Prior to further flight after the inspection, unless already accomplished | In accordance with the ACCOMPLISHMENT INSTRUCTIONS section of Raytheon Mandatory Service Bulletin SB 57-3328, Issued: July, 1999, and the instructions in the applicable maintenance manual.
(3) Do not install, on any affected airplanes, a forward wing bolt that has the Mercury Aerospace trademark | As of March 19, 2001 (the effective date of this AD) | Not Applicable.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. T.N. Baktha, Aerospace Engineer, FAA, Wichita Aircraft Certification Office, 1801 Airport Road, Mid-Continent Airport, Wichita, Kansas 67209; telephone: (316) 946-4155; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Mandatory Service Bulletin No. SB 57-3328, Issued: July, 1999. The Director of the Federal Register approved this incorporation by reference under 5 U.S.C. 552(a) and 1 CFR part 51. You can get copies from Raytheon Aircraft Company, P.O. Box 85, Wichita, Kansas 67201-0085. You can look at copies at the FAA, Central Region, Office of the Regional Counsel, 901 Locust, Room 506, Kansas City, Missouri, or at the Office of the Federal Register, 800 North Capitol Street, NW, suite 700, Washington, DC.

(i) When does this amendment become effective? This amendment becomes effective on March 19, 2001.

Issued in Kansas City, Missouri, on January 18, 2001.
Michael Gallagher,
Manager, Small Airplane Directorate, Aircraft Certification Service.

[FR Doc. 01-2300 Filed 2-1-01; 8:45 am]

BILLING CODE 4910-13-U